FEDERAL COMMUNICATIONS COMMISSION

Notice of Public Information Collection(s) Being Reviewed by the Federal Communications Commission for Extension Under Delegated Authority

November 7, 2006.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments January 22, 2007. If you anticipate that you will be submitting comments, but find it difficult to do so within the period of time allowed by this notice, you should advise the contact listed below as soon as possible.

ADDRESSES: Direct all PRA comments to Allison E. Zaleski, Office of Management and Budget (OMB), Room 10236 NEOB, Washington, DC 20503, (202) 395-6466, or via fax at 202-395-5167, or via the Internet at Allison_E._Zaleski@eop.omb.gov and to Judith-B.Herman@fcc.gov, Federal Communications Commission (FCC), Room 1-B441, 445 12th Street, SW., Washington, DC 20554. To submit your comments by e-mail send them to: PRA@fcc.gov. If you would like to obtain or view a copy of this information collection after the 60 day comment period, you may do so by visiting the FCC PRA Web page at: http://www.fcc.gov/omd/pra.

FOR FURTHER INFORMATION CONTACT: For additional information about the information collection(s) send an e-mail to PRA@fcc.gov or contact Judith B. Herman at 202-418-0214.

SUPPLEMENTARY INFORMATION: OMB Control No.: 3060-0757.

Title: FCC Auctions Customer Survey.

Form No.: N/A.

Type of Review: Extension of a currently approved collection.

Respondents: Individuals or households and business or other for-profit.

Number of Respondents: 2,000.

Estimated Time Per Response: .25 hours.

Frequency of Response: On occasion reporting requirement.

Total Annual Burden: 500 hours.

Annual Cost Burden: N/A.

Privacy Act Impact Assessment: N/A.

Needs and Uses: This collection will be submitted as an extension (no change in reporting requirements) after this 60 day comment period to Office of Management and Budget (OMB) in order to obtain the full three year clearance. There is no change in respondents or burden hours/costs.

Section 309(j) gives the Commission express authority to employ competitive bidding procedures to choose among mutually exclusive applications for initial licenses. Section 309(j)(3) of the Communications Act requires the Commission to establish a competitive bidding methodology for each class of licenses or permits that the Commission grants through the use of a competitive bidding system. The Commission is further directed to test alternative methodologies under appropriate circumstances in order to promote, among other things, “the development and rapid deployment of new technologies, products and services for the benefit of the public, including those residing in rural areas, without administrative or judicial delays.” The Commission is likewise directed to promote “economic opportunity and competition, ensuring that new and innovative technologies are readily accessible to the American people by avoiding excess concentration of licenses and by disseminating licenses among a wide variety of applicants, including small businesses, rural telephone companies and businesses owned by members of minority groups and women.” In addition, Section 309(j)(12) requires the Commission to evaluate the methodologies established by the Commission for conducting competitive bidding, comparing the advantages and disadvantages of such methodologies in terms of attaining these objectives.

The FCC Auctions Customer Survey is an important step in meeting these Congressional requirements. By seeking input from auction participants, the Commission expects to gather information to evaluate the effectiveness of competitive bidding methodologies used to date, and to improve the competitive bidding methodologies used in future auctions. Finally, the Commission Auctions Customer Survey will provide useful feedback in determining the extent to which the Commission is meeting its goal of providing participants in competitive bidding with the highest level of customer satisfaction through information dissemination and the responsiveness of the Commission staff to customer inquiries. The information in the FCC Auctions Customer Survey is voluntary. The customer survey will be conducted by mail and will include all participants in completed auctions. Respondents may return the survey information by mail, fax, telephone, etc. The survey will be conducted by contracted staff and will occur at the end of an auction. Contracted staff will also record responses received on the survey. In the alternative, customer surveys may be conducted by posting the survey either on the Commission's electronic computer auction system or on the Internet. Responses will be received electronically, either via the Commission's electronic computer auction system or via the Internet. Those bidders who do not participate in the Commission's auction by computer will be polled by mail. The decision of which alternative to employ in each information collection will be based on an analysis of maximizing convenience and minimizing burden for participants. Information technology will be used to the maximum extent consistent with this standard.

Federal Communications Commission.
Marlene H. Dortch,
Secretary.

[FR Doc. E6-19467 Filed 11-21-06; 8:45 am]

BILLING CODE 6712-01-P